NATIONAL AERONAUTICS AND SPACE ADMINISTRATION

[Notice (00-074)]

Notice of Prospective Patent License

AGENCY: National Aeronautics and Space Administration.

ACTION: Notice of prospective patent license.

SUMMARY: NASA hereby gives notice that AVIR, LLC, of Charlottesville, VA 22906, has applied for a partially exclusive license [limited to the field of use defined as “remote sensing, including remote imaging, of the production, stockpiling, use or any other existence of narcotic drugs, their precursors and decay products, whether the drugs are legal or illegal,” to practice the inventions described and claimed in: U.S. Patent No. 5,128,797 entitled “NON-MECHANICAL OPTICAL PATH SWITCHING AND ITS APPLICATION TO DUAL BEAM SPECTROSCOPY INCLUDING GAS FILTER CORRELATION RADIOMETRY,” U.S. Patent No. 6,008,928 entitled “MULTI-GAS SENSOR,” U.S. Patent No. 6,057,923 entitled “OPTICAL PATH SWITCHING BASED DIFFERENTIAL ABSORPTION RADIOMETRY FOR SUBSTANCE DETECTION,” NASA Case No. LAR 15361-2 entitled “GAS SENSOR DETECTOR BALANCING,” and NASA Case No. LAR 15818-2 entitled “OPTICAL PATH SWITCHING BASED DIFFERENTIAL ABSORPTION RADIOMETRY FOR SUBSTANCE DETECTION,” for which United States Patent Application(s) was/were filed by the United States of America as represented by the Administrator of the National Aeronautics and Space Administration. Written objections to the prospective grant of a license should be sent to Langley Research Center.

DATE: Responses to this notice must be received by September 5, 2000.

FOR FURTHER INFORMATION CONTACT: Robin W. Edwards, Patent Attorney, Langley Research Center, Mail Stop 212, Hampton, VA 23681-2199; Telephone 757-864-3230; Fax 757-864-9190.

Dated: June 27, 2000.
Edward A. Frankle,
General Counsel.

[FR Doc. 00-16901 Filed 7-3-00; 8:45 am]

BILLING CODE 7510-01-P